DEPARTMENT OF JUSTICE

Notice of Lodging of Material Modification of Consent Decree Under the Residential Lead-Based Paint Hazard Reduction Act of 1992

Notice is hereby given that on August 12, 2003, a proposed Material Modification of Consent Decree in United States v. Wolin-Levin, Inc., Civil No. 01 C 7580, was lodged with the United States District Court for the Northern District of Illinois.

A Consent Decree was entered in this section on March 12, 2002, between defendant Wolin-Levin, Inc., a real estate management company doing business in the City of Chicago, the United States, and plaintiff-intervenors the State of Illinois, Cook County and the City of Chicago.

The Material Modification of Consent Decree changes the performances standard for the work that will be done pursuant to the Consent Decree. In addition, the Material Modification of Consent Decree provides that defendant Wolin-Levin, Inc. establish a $300,000 letter of credit to guarantee certain of its obligation under the modified Consent Decree.

The Department of Justice will receive for a period of thirty (30) days from the date of this publication, comments relating to the Material Modification of Consent Decree. Comments should be addressed to the Assistant Attorney General, Environmental and Natural Resources Division, P.O. Box 7611, Department of Justice, Washington, DC 20044-7611, and should refer to United States v. Wolin-Levin, Inc., D.J. Ref. 90-11-2-06829/1.

The Consent Decree may be examined at the Office of the United States Attorney, Jonathan Haile, Assistant U.S. Attorney, 5th Floor, 219 S. Dearborn St., Chicago, Illinois 60604. During the public comment period, the Consent Decree may also be examined on the following Department of Justice Website, http://www.usdoj.gov/enrd/open.html. A copy of the Consent Decree may also be obtained by mail from Consent Decree Library, P.O. Box 76121, U.S. Department of Justice, Washington, DC 20044-7611, or by faxing or e-mailing a request to Tonia Fleetwood (tonia.fleetwood@usdoj.gov), fax no. (202) 616-6584, phone confirmation number (202) 514-1547. In requesting a copy, please enclose a check in the amount of $12.00 (48 pages at 48 cents per page reproduction cost) payable to the U.S. Treasury.

Ellen Mahan,
Assistant Section Chief, Environmental Enforcement Section, Environmental and Natural Resources Division.

[FR Doc. 03-21922 Filed 8-26-03; 8:45 am]

BILLING CODE 4410-15-M